DEPARTMENT OF TRANSPORTATION

Federal Aviation Administration

14 CFR Part 39

[Docket No. FAA-2012-0603; Directorate Identifier 2012-NE-17-AD; Amendment 39-17160; AD 2012-16-13]

RIN 2120-AA64

Airworthiness Directives; BRP-Powertrain GmbH & Co KG Rotax Reciprocating Engines

AGENCY: Federal Aviation Administration (FAA), DOT.

ACTION: Final rule; correction.

SUMMARY: The FAA is correcting an airworthiness directive (AD) that was published in the Federal Register. That AD applies to BRP-Powertrain GmbH & Co KG Rotax 912 F2; 912 F3; 912 F4; 912 S2; 912 S3; and 912 S4 reciprocating engines. The word “not” was improperly omitted from the Installation Prohibition section of the AD, thereby changing the prohibition in the AD. This correction reinserts “not” into the paragraph to correct the omission. In all other respects, the original document remains the same.

DATES: This final rule is effective November 6, 2012. The effective date for AD 2012-16-13 (77 FR 51462, August 24, 2012) remains September 10, 2012.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Alan Strom, Aerospace Engineer, Engine Certification Office, FAA, Engine & Propeller Directorate, 12 New England Executive Park, Burlington, MA 01803; email: alan.strom@faa.gov; phone: 781-238-7143; fax: 781-238-7199.

SUPPLEMENTARY INFORMATION: Airworthiness Directive 2012-16-13, amendment 39-17160 (77 FR 51462, August 24, 2012), currently requires replacing the pressure side fuel hose on certain fuel pumps and inspecting the carburetors connected to those fuel pumps for contamination within 5 flight hours after the effective date of this AD for BRP-Powertrain GmbH & Co KG Rotax 912 F2; 912 F3; 912 F4; 912 S2; 912 S3; and 912 S4 reciprocating engines.

As published, the text of paragraph (g)(3), Installation Prohibition, is incorrect.

No other part of the preamble or regulatory information is in error; therefore, only the changed portion of the final rule is being published in the Federal Register.

The effective date of this AD remains September 10, 2012.

Correction of Regulatory Text

§ 39.13 [Corrected]

In the Federal Register of August 24, 2012, on page 51464, in the 1st column, paragraph (g)(3) of AD 2012-16-13 is corrected to read as follows:

* * * * *

(3) After the effective date of this AD, do not approve for return to service any product or article with a fuel hose removed from a P/N 893114 fuel pump with an S/N listed in Table 1 to paragraph (c) of this AD.

* * * * *

Issued in Burlington, Massachusetts, on October 24, 2012.
Colleen M. D'Alessandro,
Assistant Manager, Engine & Propeller Directorate, Aircraft Certification Service.

[FR Doc. 2012-26772 Filed 11-5-12; 8:45 am]

BILLING CODE 4910-13-P